DEPARTMENT OF HEALTH AND HUMAN SERVICES

Centers for Disease Control and Prevention

[30Day-06-05AH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

A Comprehensive Evaluation of an Approach to Self-Management: “Diabetes: Living My Best Life”—New—National Center for Chronic Disease Prevention and Health Promotion (NCCDPHP), Centers for Disease Control and Prevention (CDC).

Background and Brief Description

African-American women are twice as likely as white women to be diagnosed with diabetes, and two and one-half times as likely to die from diabetic complications. The onset of type 2 diabetes in African-American adults is attributable not only to a genetic link, but also to unhealthy lifestyle practices. The vast number of African-American women with type 2 diabetes report having a sedentary lifestyle and eating a diet high in fat. In addition to taking medications, lifestyle modifications, such as changes in diet, weight loss and participating in a low-impact exercise program, can significantly reduce the complications experienced by women with type 2 diabetes. Unfortunately, there is a scarcity of training and educational materials on type 2 diabetes targeting the African-American woman. The limited availability of targeted educational materials has undoubtedly contributed to an inability to manage and control this disease in this population and has resulted in a higher prevalence of disease-related co-morbidities. There is a need for innovative interventions that can be used in a variety of settings, and that feature culturally appropriate assets that will engage African-American women with type 2 diabetes in a proactive role in the treatment and management of their disease.

The proposed project is the evaluation of a CD-ROM educational program: “Diabetes: Living My Best Life.” This product has been developed to teach African American women with type 2 diabetes self-management skills. Social Learning Theory (SLT) informed the development of the product and the selection of the media elements. Selection of the information and tools was guided by input from an Advisory Board composed of professionals in the field and African American women with type 2 diabetes.

To evaluate this program there will be two questionnaires: A Pretest and a Posttest. The two questionnaires will include questions on:

• Respondent demographic information (Pretest only).

• Respondent use of computers (Pretest only).

• Knowledge of diabetes.

• Self-efficacy in addressing diabetes self-management issues.

• Diabetes self-care activities.

• Feeling of empowerment around diabetes self-management.

• Social learning theory elements (Posttest only).

Pretest and Posttest intervention data will be collected by computer. Burden estimates are based observation of African-American women with type 2 diabetes who completed a formal pilot test of the Pretest and Posttest forms. There are no costs to respondents except their time to participate in the survey. The annualized burden hours are 44.

Annualized Burden Table
Respondent | Number of respondents | Number of responses per respondent | Average burden per response (in hours)
African American women with Type 2 diabetes—Pretest | 66 | 1 | 20/60
African American women with Type 2 diabetes—Posttest | 66 | 1 | 20/60

Dated: February 28, 2006.
Joan F. Karr,
Acting Reports Clearance Officer, Centers for Disease Control and Prevention.

[FR Doc. E6-3188 Filed 3-6-06; 8:45 am]

BILLING CODE 4163-18-P